DEPARTMENT OF TRANSPORTATION

Pipeline and Hazardous Materials Safety Administration

[Docket No. PHMSA-05-21747; Notice 2]

Pipeline Safety: Grant of Waiver; Southern LNG

AGENCY: Pipeline and Hazardous Materials Safety Administration (PHMSA); U.S. Department of Transportation (DOT).

ACTION: Grant of Waiver; Southern LNG.

SUMMARY: Southern LNG (SLNG) requested a waiver of compliance from the regulatory requirements at 49 CFR 193.2301, which requires each liquefied natural gas (LNG) facility constructed after March 31, 2000, to comply with 49 CFR part 193 and the National Fire Protection Association (NFPA) Standard NFPA 59A “Standard for Production, Storage, and Handling of Liquefied Natural Gas.”

SUPPLEMENTARY INFORMATION:

Background

SLNG, an El Paso Company, requested a waiver from § 193.2301. This regulation requires each LNG facility constructed after March 31, 2000, to comply with 49 CFR part 193 and Standard NFPA 59A.

Standard NFPA 59A requires that welded containers designed for not more than 15 pounds per square inch gauge comply with the Eighth Edition, 1990, of American Petroleum Institute (API) Standard API 620, “Design and Construction of Large, Welded, Low-Pressure Storage Tanks (Appendix Q).” The Eighth Edition of API 620 requires inspection according to Appendix Q which calls for a full radiographic examination of all vertical and horizontal butt welds associated with the container.

SLNG is proposing to use the current Tenth Edition, Addendum 1, of API 620. The Tenth Edition, Addendum 1, of API 620, allows ultrasonic examination—in lieu of radiography—as an acceptable alternative non-destructive testing method. SLNG proposes to use ultrasonic examination on its project, which consists of full semi-automated and manual ultrasonic examination using shear wave probes. SLNG also proposes to use a volumetric ultrasonic examination which combines creep wave probes and focused angled longitudinal waive probes.

Findings

PHMSA considered SLNG's waiver request and published a notice inviting interested persons to comment on whether a waiver should be granted (70 FR 40781; July 14, 2005). There were two comments from the public in response to the notice; both were in support of the waiver.

One commenter, a member of the API Committee on Refinery Equipment, Subcommittee on Pressure Vessels and Tanks, said that the use of ultrasonic examination in lieu of radiographic examination for large LNG tanks improves jobsite safety because it eliminates the hazards of radiation exposure. This commenter also said that ultrasonic examination is more capable than radiographic examination for detecting crack-like weld defects.

The other commenter provided a copy of NFPA 59A Report on Comments, dated May 2005 and stated that the NFPA 59A Committee approved the latest edition of API 620.

The 2006 edition of NFPA 59A was approved as an American National Standard on August 18, 2005.

Grant of Waiver

In its Report on Comments, dated May 2005, the NFPA 59A Committee accepted in principle the latest edition of API 620, Tenth Edition, Addendum 1. The Tenth Edition, Addendum 1, of API 620 adds ultrasonic examination as an acceptable method of examination. The Tenth Edition, Addendum 1, of API 620 indicates that both radiographic and ultrasonic examination are acceptable means of testing.

For the reasons explained above and in the Notice dated July 14, 2005, PHMSA finds that the requested waiver is consistent with pipeline safety and that an equivalent level of safety can be achieved. Therefore, SLNG's request for waiver of compliance with § 193.2301 is granted.

Issued in Washington, DC, on September 21, 2005.
Theodore L. Willke,
Deputy Associate Administrator for Pipeline Safety.

[FR Doc. 05-19198 Filed 9-26-05; 8:45 am]

BILLING CODE 4910-60-P